DEPARTMENT OF COMMERCE

National Oceanic and Atmospheric Administration (NOAA)

[Docket No: 111003608-1608-01]

Office of Oceanic and Atmospheric Research Draft Strategic Plan

AGENCY: Office of Oceanic and Atmospheric Research (OAR), National Oceanic and Atmospheric Administration NOAA), Department of Department of Commerce (DOC).

ACTION: Notice of availability and request for public comment.

SUMMARY: This notice announces that OAR's draft Strategic Plan (FY12-18) is available for public review and comment. The draft incorporates OAR's mission and vision, and characterizes its goals and objectives over the next six years. These goals and objectives will provide guidance and strategic direction for program and laboratory planning.

DATES: Public comments are due by 5 p.m., EST, November 11, 2011.

ADDRESSES: Public comments must be submitted to OAR.Plan@noaa.gov.

The draft document can be found electronically at: http://www.oar.noaa.gov/aboutus/strategic.html. Those without computer access can call 301-734-1048 to request a copy of the draft strategic plan and instructions for returning written comments by U.S. Postal Service.

FOR FURTHER INFORMATION CONTACT: The NOAA Strategic Planning Team at OAR.Plan@noaa.gov.

SUPPLEMENTARY INFORMATION:

Background

The National Oceanic and Atmospheric Administration (NOAA) completed its Next Generation Strategic Plan (NGSP) in December of 2010. The NGSP outlines NOAA's long-term goals and objectives. The Office of Oceanic and Atmospheric Research, one of five Line Offices within NOAA, has developed its strategic plan in line with the NGSP to ensure the success of the National Oceanic and Atmospheric Administration.

The strategic plan describes OAR's long-term goals along with specific objectives that will be pursued over the next five years. Each objective will be pursued and evaluated against outcome-oriented performance measures to determine level of progress. The plan emphasizes OAR core competencies and encourages the pursuit of pre-eminent research and science integrity. Ultimately, this plan provides the framework that OAR will use to deliver significant benefits to society while working to advance NOAA's mission of science, service, and stewardship.

Dated: October 12, 2011.
Mark E. Brown,
Chief Financial Officer/Chief Administrative Officer, Office of Oceanic and Atmospheric Research, National Oceanic and Atmospheric Administration.

[FR Doc. 2011-26878 Filed 10-17-11; 8:45 am]

BILLING CODE 3510-KD-P